SMALL BUSINESS ADMINISTRATION

[Declaration of Disaster #3427]

State of Alaska; Disaster Loan Areas

As a result of the President's major disaster declaration on June 26, 2002, I find that Fairbanks North Star Borough, McGrath and Lime Village in the Iditarod Regional Education Attendance Areas (REAA), Aniak, Crooked Creek, Red Devil and Sleetmute in the Kuspuk REAA, Kwethluk in the Lower Kuskokwim REAA and Ekwok and New Stuyahok in the Southwest Region REAA in the State of Alaska constitute a disaster area due to damages caused by flooding occurring on April 27, 2002 through May 30, 2002. Applications for loans for physical damage as a result of this disaster may be filed until the close of business on August 25, 2002 and for economic injury until the close of business on March 26, 2003 at the address listed below or other locally announced locations:

U.S. Small Business Administration, Disaster Area 4 Office, P.O. Box 13795, Sacramento, CA 95853-4795

In addition, applications for economic injury loans from small businesses located in the following areas and jurisdictions in Alaska may be filed until the specified date at the above location: Alaska Gateway REAA, Delta/Greely REAA, Iditarod REAA, Kahsunamiut (Chevak) REAA, Lower Kuskokwim REAA, Lower Yukon REAA, Southwest Region REAA, Yupiit (Akiachak, Akiak and Tulusak) REAA, Lake & Peninsula Borough, Yukon Flats REAA, Denali Borough and Yukon-Koyukuk REAA.

The interest rates are:

| Percent
For Physical Damage:
Homeowners with credit available elsewhere | 6.750
Homeowners without credit available elsewhere | 3.375
Businesses with credit available elsewhere | 7.000
Busineses and non-profit organizations without credit available elsewhere | 3.500
Others (including non-profit organizations) with credit available elsewhere | 6.375
For Economic Injury:
Businesses and small agricultural cooperatives without credit available elsewhere | 3.500

The number assigned to this disaster for physical damage is 342706. For economic injury the number is 9Q3700 for Alaska.

(Catalog of Federal Domestic Assistance Program Nos. 59002 and 59008)
Dated: June 27, 2002.
Herbert L. Mitchell,
Associate Administrator for Disaster Assistance.

[FR Doc. 02-16787 Filed 7-3-02; 8:45 am]

BILLING CODE 8025-01-P